DEPARTMENT OF COMMERCE

National Oceanic and Atmospheric Administration

RIN 0648-XC026

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council's Mackerel, Squid, and Butterfish (MSB) Monitoring Committee will hold a public meeting.

DATES: The meeting will be held on May 31, 2012 from 9 a.m. until 1 p.m.

ADDRESSES: The meeting will be held via Webinar with a listening station also available at the Council Address below. Webinar registration: https://www1.gotomeeting.com/register/474223601.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The primary purpose of the meeting is to develop recommendations for the Council regarding the management of Atlantic mackerel, butterfish, longfin (Loligo) squid, and Illex Squid for 2013, including annual catch limits, annual catch targets, accountability measures, and other management measures.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under section 305(c) of the Magnuson-Stevens Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: May 11, 2012.
Tracey L. Thompson,
Acting Director, Office of Sustainable Fisheries, National Marine Fisheries Service.

[FR Doc. 2012-11918 Filed 5-16-12; 8:45 am]

BILLING CODE 3510-22-P